DEPARTMENT OF HEALTH AND HUMAN SERVICES

Health Resources and Services Administration

Agency Information Collection Activities: Submission to OMB for Review and Approval; Public Comment Request; Bureau of Primary Health Care Uniform Data System, OMB No. 0915-0193—Revision

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than January 13, 2020.

ADDRESSES: Submit your comments, including the ICR title, to the desk officer for HRSA, either by email to OIRA_submission@omb.eop.gov or by fax to (202) 395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Bureau of Primary Health Care (BPHC) Uniform Data System (UDS), OMB No. 0915-0193—Revision

Abstract: The Health Center Program, administered by HRSA, is authorized under section 330 of the Public Health Service (PHS) Act, most recently amended by section 50901(b) of the Bipartisan Budget Act of 2018, Public Law 115-123. Health centers are community-based and patient-directed organizations that deliver affordable, accessible, quality, and cost-effective primary health care services to patients regardless of their ability to pay. Nearly 1,400 health centers operate approximately 12,000 service delivery sites that provide primary health care to more than 27 million people in every U.S. state, the District of Columbia, Puerto Rico, the U.S. Virgin Islands, and the Pacific Basin. HRSA uses the Uniform Data System (UDS) for annual reporting by certain HRSA award recipients, including Health Center Program awardees (those funded under section 330 of the PHS Act), Health Center Program look-alikes, and Nurse Education, Practice, Quality and Retention Program awardees (specifically those funded under the practice priority areas of section 831(b) of the PHS Act).

Need and Proposed Use of the Information: HRSA collects UDS data annually to ensure compliance with legislative and regulatory requirements, improve clinical and operational performance, and report overall program accomplishments. HRSA aligns several clinical measures reported in UDS with the Centers for Medicare & Medicaid Services' (CMS) electronic specified clinical quality measures (eCQM). These data help to identify trends over time, enabling HRSA to establish or expand targeted programs and to identify effective services and interventions that will improve the health of medically underserved communities. HRSA analyzes UDS data with other national health-related data sets to compare the Health Center Program patient populations and the overall U.S. population.

HRSA received comments on the BPHC UDS Federal Register notice published on July 26, 2019, vol. 84, No. 144; pp. 36108. We have taken the commenter's suggestions into consideration and have made appropriate adjustments to the draft instruments. The 2020 UDS data collection will be updated in the following ways:

• Retiring CMS126 Use of Appropriate Medications for Asthma: The CMS eCQM is no longer being updated when new asthma medications are approved for use. This measure was also retired from the Healthcare Effectiveness Data and Information Set, is no longer endorsed by the NQF, and there is currently no comparable eCQM for asthma. Thus, no replacement measure is planned at this time.

• Retaining CMS277v0—Dental Sealants for Children Between 6-9 years: Based upon public feedback, HRSA has decided to retain the dental sealant measure for 2020 UDS reporting. HRSA has also decided to not add the fluoride varnish measure for 2020 UDS.

• Adding CMS159v8 Depression Remission at Twelve Months: The addition of the CMS depression remission measure at 12 months provides complementary mental health outcome data on how well health centers help patients reach remission. Improvement in the symptoms of depression and an ongoing assessment of the current treatment plan are crucial to the reduction of symptoms and psychosocial well-being of patients. The addition of CMS159v8 further supports HRSA's commitment to HHS' strategic objective to “Reduce the impact of mental and substance use disorders through prevention, early intervention, treatment, and recovery support.”

• Revising the HIV linkage to care measure: The HIV linkage to care measure captures the percentage of patients whose first ever HIV diagnosis was made by health center staff between October 1 of the prior year and September 30 of the measurement year and who were seen for follow-up treatment within 90 days of that first-ever diagnosis. This measure will be modified to change the follow-up treatment from 90 days to 30 days aligning with Centers for Disease Control and Prevention's guidance.¹

¹ https://www.cdc.gov/hiv/pdf/library/factsheets/cdc-hiv-care-continuum.pdf.

• Adding CMS349v2 HIV Screening: The addition of the CMS HIV screening measure will enable HRSA to better identify priority geographic locations, assist high risk groups among health center patients, and more effectively deploy interventions and resources in support of the “Ending the HIV Epidemic” Initiative.

• Adding Prescription for Pre-Exposure Prophylaxis International Classification of Diseases (ICD) 10 Codes and Current Procedural Terminology codes: The addition of the Prescription for Pre-Exposure Prophylaxis ICD-10 and Current Procedural Terminology codes will allow for the collection of this HIV prescription prevention data in health centers and further supports the “Ending the HIV Epidemic” Initiative's goal of reducing new HIV infections.

• Refraining from including additional diabetes measures: Based upon public feedback, HRSA will not be adding CMS131v8 Diabetes Eye Exam, CMS123v7 Diabetes Foot Exam, or CMS134v8 Diabetes Medial Attention to Nephropathy to the 2020 UDS.

• Adding CMS125v8 Breast Cancer Screening: There is substantial geographic and demographic variation in breast cancer death rates, suggesting that there are social and non-economic obstacles that affect breast cancer screening.² Preventive screening through timely access to mammograms can lead to early detection, better treatment prognosis, and potential to reduce health disparities.³

² https://www.ncbi.nlm.nih.gov/pmc/articles/PMC4540479/.

³ https://www.thecommunityguide.org/findings/cancer-screening-reducing-structural-barriers-clients-breast-cancer.

• Adding a Prescription Drug Monitoring Programs (PDMPs) Question to Appendix D: Health Center Health Information Technology Capabilities: PDMPs are effective tools for reducing prescription drug abuse and diversion. Improving provider utilization and access to real-time data has demonstrated meaningful results in reducing over-prescribing of medication.⁴

⁴ https://www.pdmpassist.org/content/prescription-drug-monitoring-frequently-asked-questions-faq.

• Revising the Social Determinants of Health Question in Appendix D: Health Center Health Information Technology Capabilities: There is strong evidence that social and economic factors influence an individual's health.⁵ Several health care systems are exploring how to collect information on the social determinants of health (SDOH). The inclusion of these questions into Appendix D allows HRSA to see how health centers are approaching this challenge and how many of their vulnerable patients are experiencing social and economic risks associated with poor health. For health centers that are using a standardized screener, there is one additional question asking for the total number of patients that screen positive for food insecurity, housing insecurity, financial strain, and lack of transportation/access to public transportation.

⁵ https://www.countyhealthrankings.org/explore-health-rankings/measures-data-sources/county-health-rankings-model/health-factors/social-and-economic-factors.

• Adding ICD-10 Codes to Capture Human Trafficking and Intimate Partner Violence: HRSA is aware that human trafficking ⁶ and intimate partner violence ⁷ are part of the SDOH that can affect a wide range of health and quality of life outcomes. Addressing SDOH is a HRSA objective to improve the health and well-being of health center patients and the broader community in which they reside.

⁶ https://www.acf.hhs.gov/otip/about/what-is-human-trafficking.

⁷ https://www.hrsa.gov/sites/default/files/hrsa/HRSA-strategy-intimate-partner-violence.pdf.

• Utilizing the Uniform Data System Test Cooperative (UTC): As part of HRSA's efforts to modernize the UDS HRSA is establishing the UTC as an enduring testing and piloting capability. The UTC consists of three main components: (1) A steering committee, (2) a coordinating entity, and (3) health center test participants. Through this cooperative, HRSA will be able to pilot test innovative information technology and software, streamlining of clinical quality measures, and alternative data collection methodologies to reduce reporting burden and improve data quality and integrity.

The total number of estimated respondents changed from 2,075 to 2,134. The reason for the increase in the number of respondents for the UDS Report from 1,471 to 1,503 is because this number was previously based on 2018 UDS data that HRSA had available in July 2019. Since then, HRSA has been able to update the respondents that we anticipate for 2019 UDS reporting due to the incremental increase of awardees in the Health Center Program. The increase in the number of Grant Reports for Vulnerable Populations from 504 to 531 is due to an increase in a subset of awardees who receive Migrant Health Center, Health Care for the Homeless, and Health Centers for Residents of Public Housing funding.

The average burden hours per response changed from 223 to 238 as a result of comments received on the 60-day Federal Register Notice and additional consultation with external stakeholders. These stakeholders stated that the inclusion of additional clinical quality measures in the UDS would slightly increase the reporting burden. While these measures are already included in most electronic health records, there is some additional work that health centers will need to do in order to incorporate the measures into their workflows and their annual reporting. In addition to these changes, the names of the forms Universal Report and Grant Report were updated to provide greater specificity.

Likely Respondents: Likely respondents will include Health Center Program award recipients, Health Center Program look-alikes, and Nurse Education, Practice, Quality and Retention Program awardees funded under the practice priority areas of section 831(b) of the PHS Act.

Burden Statement: Burden includes the time expended by persons to generate, maintain, retain, disclose or provide the information requested. This includes the time needed to review instructions; to develop, acquire, install, and use technology and systems for the purpose of: Collecting, validating, and verifying information, processing and maintaining information, disclosing and providing information. It also accounts for time to train personnel, respond to a collection of information, search data sources, complete and review the collection of information, and transmit or otherwise disclose the information. It will also include testing information necessary to support the UTC. No more than three tests would be conducted each calendar year and no more than one hundred health centers would participate in one test. Participation is voluntary and will not affect health centers' funding status. This sample size is sufficient to conduct a pilot test and determine if proposed innovations should be scaled across the Health Center Program.

The total annual burden hours estimated for this Information Collection Request are summarized in the table below.

Total Estimated Annualized Burden—Hours
Form name | Number of respondents | Number of responses per respondent | Total responses | Average burden per response (in hours) | Total burden hours
Uniform Data System (UDS) Report | 1,503 | 1 | 1,503 | 238 | 357,714
Grant Report for Vulnerable Populations | 531 | 1 | 531 | 30 | 15,930
UTC Tests | 100 | 3 | 300 | 80 | 24,000
Total | 2,134 |  | 2,334 |  | 397,644

Maria G. Button,
Director, Executive Secretariat.

[FR Doc. 2019-26876 Filed 12-12-19; 8:45 am]

BILLING CODE 4165-15-P